FEDERAL EMERGENCY MANAGEMENT AGENCY

[FEMA-1378-DR]

West Virginia; Amendment No. 1 to Notice of a Major Disaster Declaration

AGENCY: Federal Emergency Management Agency (FEMA).

ACTION: Notice.

SUMMARY: This notice amends the notice of a major disaster declaration for the State of West Virginia, (FEMA-1378-DR), dated June 3, 2001, and related determinations.

EFFECTIVE DATE: June 11, 2001.

FOR FURTHER INFORMATION CONTACT: Madge Dale, Response and Recovery Directorate, Federal Emergency Management Agency, Washington, DC 20472, (202) 646-3772.

SUPPLEMENTARY INFORMATION: The notice of a major disaster declaration for the State of West Virginia is hereby amended to include the following areas among those areas determined to have been adversely affected by the catastrophe declared a major disaster by the President in his declaration of June 3, 2001:

Cabell, Mason, Mingo, Roane, and Summers Counties for Individual Assistance.

Clay, Lincoln, and Wayne Counties for Individual Assistance (already designated for Public Assistance).

McDowell County for Individual and Public Assistance.

(The following Catalog of Federal Domestic Assistance Numbers (CFDA) are to be used for reporting and drawing funds: 83.537, Community Disaster Loans; 83.538, Cora Brown Fund Program; 83.539, Crisis Counseling; 83.540, Disaster Legal Services Program; 83.541, Disaster Unemployment Assistance (DUA); 83.542, Fire Suppression Assistance; 83.543, Individual and Family Grant (IFG) Program; 83.544, Public Assistance Grants; 83.545, Disaster Housing Program; 83.548, Hazard Mitigation Grant Program.)
Robert J. Adamick,
Deputy Associate Director, Response and Recovery Directorate.

[FR Doc. 01-15713 Filed 6-21-01; 8:45 am]

BILLING CODE 6718-02-U